DEPARTMENT OF LABOR

Office of the Secretary

Agency Information Collection Activities; Submission for OMB Review; Comment Request; Job Clubs Study

ACTION: Notice; correction.

SUMMARY: The Department of Labor published a document in the Federal Register of February 26, 2013, concerning request for comments on site visits to job clubs. The document contained incorrect dates.

FOR FURTHER INFORMATION CONTACT: Contact Ben Seigel by telephone at 202-693-6032 (this is not a toll-free number) or by email at CFBNP@dol.gov.

Correction

In the Federal Register of February 26, 2013, in FR Doc. 2013-04391, on page 13086, in the second column, correct the DATES caption to read:

DATES: Written comments must be submitted to the office listed in the addressee section on or before April 27, 2013.

Signed at Washington, DC, this 5th day of March, 2013.
Irasema Garza,
Acting Assistant Secretary for Policy, U.S. Department of Labor .

[FR Doc. 2013-05775 Filed 3-12-13; 8:45 am]

BILLING CODE P